DEPARTMENT OF TRANSPORTATION

Federal Aviation Administration

14 CFR Part 71

[Docket No. FAA-2005-21873; Airspace Docket No. 05-ACE-27]

Modification of Class D and Class E Airspace; Salina Municipal Airport, KS; Correction

AGENCY: Federal Aviation Administration (FAA), DOT.

ACTION: Direct final rule; request for comments; correction.

SUMMARY: This action corrects errors in the legal description of Class D airspace in a direct final rule, request for comments that was published in the Federal Register on Friday July 29, 2005 (70 FR 43742).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 2005-21873 published on Friday July 29, 2005 (70 FR 43742), modified Class D and Class E Airspace at Salina Municipal Airport, KS. The legal descriptions of these airspace areas used outdated and incorrect information. This action corrects those errors.

Accordingly, pursuant to the authority delegated to me, the errors in the legal descriptions of airspace at Salina Municipal Airport, KS as published in the Federal Register Friday July 29, 2005 (70 FR 43742), (FR Doc. 2005-21873), are corrected as follows:

§ 71.1 [Amended]

2. The incorporation by reference in 14 CFR 71.1 of Federal Aviation Administration Order 7400.9N, dated September 1, 2005, and effective September 15, 2005, is amended as follows:

Paragraph 5000 Class D Airspace.

* * * * *

ACE KS D Salina, KS

Salina Municipal Airport, KS

(Lat. 38°47′27″ N., long. 97°39′08″ W.)

That airspace extending upward from the surface to and including 3,800 feet MSL within a 5.4-mile radius of Salina Municipal Airport. This Class D airspace area is effective during the specific dates and times established in advance by a Notice to Airmen. The effective date and time will thereafter be continuously published in the Airport/Facility Directory.

* * * * *

Paragraph 6002 Class E Airspace Designated as Surface Areas.

* * * * *

ACE KS E2 Salina, KS

Salina Municipal Airport, KS

(Lat. 38°47′27″ N., long. 97°39′08″ W.)

Airmen. The effective date and time will thereafter be continuously published in the Airport/Facility Directory.

* * * * *

Paragraph 6004 Class E Airspace Designated as an Extension to a Class D or Class E Surface Area.

* * * * *

ACE KS E4 Salina, KS

Salina Municipal Airport, KS

(Lat. 38°47′27″ N., long. 97°39′08″ W.)

Salina VORTAC

(Lat. 38°55′31″ N., long. 97°37′17″ W.)

That airspace extending upward surface within 1.5 miles each side of the Salina VORTAC 190° radial extending from the 5.4-mile radius of Salina Municipal Airport to 2 miles south of the VORTAC.

* * * * *

Paragraph 6005 Class E airspace areas extending upward from 700 feet or more above the surface of the earth.

* * * * *

ACE KS E5 Salina, KS

Salina Municipal Airport, KS

(Lat. 38°47′27″ N., long. 97°39′08″ W.)

That airspace extending upward from 700 feet above the surface within an 8.4-mile radius of Salina Municipal Airport.

Issued in Kansas City, MO, on September 20, 2005.
Elizabeth S. Wallis,
Acting Area Director, Western Flight Services Operations.

[FR Doc. 05-20462 Filed 10-12-05; 8:45 am]

BILLING CODE 4910-13-M